DEPARTMENT OF COMMERCE

National Oceanic and Atmospheric Administration

[I.D. 080502C]

ICCAT Advisory Committee; Public Meetings

AGENCY: National Marine Fisheries Service (NMFS), National Oceanic and Atmospheric Administration (NOAA), Commerce.

ACTION: Notice of public meetings.

SUMMARY: The Advisory Committee to the U.S. Section to the International Commission for the Conservation of Atlantic Tunas (ICCAT), in conjunction with the International Fisheries Division of NMFS, announces the schedule of regional public meetings to be held this fall.

DATES: The meetings are scheduled for September 2002. See SUPPLEMENTARY INFORMATION for specific dates and times of the meetings.

ADDRESSES: The meetings will be held in New Jersey, Massachusetts, South Carolina, and Florida. See SUPPLEMENTARY INFORMATION for specific addresses of the meetings.

FOR FURTHER INFORMATION CONTACT: Erika Carlsen at 301-713-2276.

SUPPLEMENTARY INFORMATION: The regional public meetings are scheduled as follows:

Tuesday, September 3, 2002, 7 p.m. to 9:30 p.m. - Atlantic Cape Community College, 5100 Black Horse Pike, Mays Landing, NJ;

Wednesday, September 4, 2002, 7 p.m. to 9:30 p.m. - Holiday Inn Boston Logan Airport, 225 McClellan Highway, Boston, MA;

Tuesday, September 17, 2002, 7 p.m. to 9:30 p.m. - Town and Country Inn, 2008 Savannah Highway, Charleston, SC;

Wednesday, September 18, 2002, 7 p.m. to 9:30 p.m. - Sheraton Biscayne Bay Hotel, 495 Brickell Avenue, Miami, FL.

The following topics may be presented to the public for discussion at the regional meetings:

(1) Background on ICCAT

(2) Information on the Advisory Committee and Commissioners

(3) Status of Highly Migratory Species Managed by ICCAT

(4) Topics for the 2002 ICCAT Annual Meeting

Representatives from the Advisory Committee to the U.S. Section to ICCAT and NMFS will be in attendance at the regional meetings. There will be an opportunity for public comment on each of these international issues. The length of the meetings may be adjusted based on the progress of the discussions.

Additionally, the annual fall meeting of the Advisory Committee will be held on October 14 - 16, 2002, at the Hilton Hotel Silver Spring, 8727 Colesville Road, Silver Spring, MD. There will be opportunity for public comment on international issues on Monday, October 14. The time for public comment period will be announced in a future notice. Domestic issues will not be discussed. An agenda for the annual fall Advisory Committee meeting will be available at a later date.

Please be reminded that NMFS expects members of the public to conduct themselves appropriately for the duration of the meeting. At the beginning of the public comment session, an explanation of the ground rules will be provided (e.g., alcohol in the meeting room is prohibited, speakers will be called to give their comments in the order in which they registered to speak, each speaker will have an equal amount of time to speak, and speakers should not interrupt one another). The session will be structured so that all attending members of the public are able to comment, if they so choose, regardless of the degree of controversy of the subject(s). Those not respecting the ground rules will be asked to leave the meeting.

Special Accommodations

The meeting locations are physically accessible to people with disabilities. Requests for sign language interpretation or other auxiliary aids should be directed to Erika Carlsen at (301) 713-2276 at least 5 days prior to the meeting date.

Dated: August 8, 2002.
Virginia M. Fay,
Acting Deputy Director, Office of Sustainable Fisheries, National Marine Fisheries Service.

[FR Doc. 02-20658 Filed 8-13-02; 8:45 am]

BILLING CODE 3510-22-S